NATIONAL TRANSPORTATION SAFETY BOARD

Sunshine Act Meeting

Investigation Presentation

TIME AND DATE: 9:30 a.m., Tuesday, November 15, 2016.

PLACE: NTSB Conference Center, 429 L'Enfant Plaza SW., Washington, DC 20594.

STATUS: The one item is open to the public.

STAFF PRESENTATION: Briefs on Two Midair Collisions—July 7, 2015, accident involving a Cessna 150M and a Lockheed Martin F-16CM near Moncks Corner, South Carolina (ERA15MA259A/B); and August 16, 2015, accident involving a Cessna 172M and a North American Rockwell NA265-60SC Sabreliner near San Diego, California (WPR15MA243A/B); Safety Recommendation Report; and Safety Alert—Preventing Midair Collisions: Don't Depend on Vision Alone.

TIME AND DATE: 1:30 p.m., Tuesday, November 15, 2016.

PLACE: NTSB Conference Center, 429 L'Enfant Plaza SW., Washington, DC 20594.

STATUS: The one item is open to the public.

MATTER TO BE CONSIDERED: 8737A Highway Accident Report: Amphibious Passenger Vehicle DUCK 6 Lane Crossover Collision With Motorcoach on State Route 99, Aurora Bridge, Seattle, Washington, September 24, 2015 (HWY15MH011)

NEWS MEDIA CONTACT: Telephone: (202) 314-6100.

The press and public may enter the NTSB Conference Center one hour prior to the meeting for set up and seating.

Individuals requesting specific accommodations should contact Rochelle Hall at (202) 314-6305 or by email at Rochelle.Hall@ntsb.gov by Wednesday, November 10, 2016.

The public may view the meeting via a live or archived webcast by accessing a link under “News & Events” on the NTSB home page at www.ntsb.gov.

Schedule updates, including weather-related cancellations, are also available at www.ntsb.gov.

FOR MORE INFORMATION CONTACT: Candi Bing at (202) 314-6403 or by email at bingc@ntsb.gov.

FOR MEDIA INFORMATION CONTACT: Terry Williams at (202) 314-6100 or by email at terry.williams@ntsb.gov, or Peter Knudson at (202) 314-6100 or by email at peter.knudson@ntsb.gov for the aviation item.

Terry Williams at (202) 314-6100 or by email at terry.williams@ntsb.gov, or Keith Holloway at (202) 314-6100 or by email at keith.holloway@ntsb.gov for the highway item.

Wednesday, November 9, 2016.
Candi R. Bing,
Federal Register Liaison Officer.

[FR Doc. 2016-27477 Filed 11-10-16; 11:15 am]

BILLING CODE 7533-01-P